SECURITIES AND EXCHANGE COMMISSION

[File No. 500-1]

In the Matter of Tirex Corporation, Order of Suspension of Trading

November 12, 2015.

It appears to the Securities and Exchange Commission that there is a lack of current and accurate information concerning the securities of The Tirex Corporation (“Tirex”) because it has not filed any periodic reports since it filed a Form 10-K for the period ended June 30, 2009 on March 1, 2011. Tirex is a Delaware corporation based in Wilton, Connecticut. Its securities are quoted on OTC Link (previously “Pink Sheets”), operated by OTC Markets Group, Inc. under the ticker symbol “TXMC.”

The Commission is of the opinion that the public interest and the protection of investors require a suspension of trading in the securities of the above-listed company.

Therefore, it is ordered, pursuant to Section 12(k) of the Securities Exchange Act of 1934, that trading in the securities of the above-listed company is suspended for the period from 9:30 a.m. EST on November 12, 2015, through 11:59 p.m. EST on November 25, 2015.

By the Commission.
Jill M. Peterson,
Assistant Secretary.

[FR Doc. 2015-29287 Filed 11-12-15; 4:15 pm]

BILLING CODE 8011-01-P